DEPARTMENT OF COMMERCE

National Oceanic and Atmospheric Administration

RIN 0648-XD446

Fisheries of the Caribbean, Gulf of Mexico, and South Atlantic; Snapper and Grouper Off the Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Gulf and South Atlantic Fisheries Foundation, Inc. (Foundation). If granted, the EFP would authorize the applicants, with certain conditions, to collect and retain limited numbers of specimens that would otherwise be prohibited from possession and retention in South Atlantic Federal waters. This study is intended to characterize catch and discard mortality within the South Atlantic commercial hook-and-line component of the snapper-grouper fishery.

DATES: Comments must be received on or before September 29, 2014.

ADDRESSES: You may submit comments on the application, identified by “RIN 0648-XD446”, by any of the following methods:

• Email: Steve.Branstetter@noaa.gov. Include in the subject line of the email comment the following document identifier: “FND EFP”.

• Mail: Steve Branstetter, Southeast Regional Office, NMFS, 263 13th Avenue South, St. Petersburg, FL 33701.

The application and related documents are available for review upon written request to any of the above addresses.

FOR FURTHER INFORMATION CONTACT: Steve Branstetter, 727-824-5305; email: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The applicant proposes research as part of the Saltonstall-Kennedy Program, which is intended to benefit the U.S. fishing industry through the collection of fundamental fisheries information. Resource collection efforts support the development and evaluation of fisheries management and regulatory options.

The proposed collection for scientific research involves activities otherwise prohibited by regulations at 50 CFR part 622 implementing the Fishery Management Plan for the Snapper-Grouper Fishery of the South Atlantic Region (FMP). The applicant requires authorization to collect limited numbers of snapper-grouper and other marine resources for scientific research activities during a 24-month period beginning October 2014, where harvest and possession is otherwise restricted or prohibited by regulations. The EFP would exempt Foundation personnel from fishery regulations such as bag limits, size limits, closures, and seasonal restrictions as specified in 50 CFR part 622, subparts A and I, for snapper-grouper in the South Atlantic. Specimens would be collected from Federal waters off the east coast of Florida and Federal waters off the coasts of Georgia, South Carolina, and North Carolina. Sampling would occur during normal fishing operations of the commercial hook-and-line component of the snapper-grouper fishery. Only vessels that possess a valid Federal commercial South Atlantic unlimited snapper-grouper permit would participate in the research. The EFP would authorize Foundation observers aboard commercial hook-and-line snapper-grouper vessels to temporarily possess all necessary specimens from the catch for documentation and to permanently retain approximately 500 specimens of federally managed finfishes and invertebrates that would otherwise be prohibited from possession and retention through the duration of the EFP. All other fish collected will either be returned to the water or retained if they are able to be included as part of the legal commercial catch. Data collections for this study would support improved information about the catch, bycatch, discards, and discard mortality for species in the snapper-grouper complex. These data would provide insight on a stock's resilience to fishing, and would help provide improved estimates of long-term biological productivity of the stocks. Currently, these data are limited, and project results are anticipated to yield valuable data within this fishery.

NMFS finds this application warrants further consideration. The limited sampling program and associated sampling methodology listed in the EFP is not expected to impact the fishery stocks; the estimated 500 fish to be retained in the 24-month period represents a small fraction of the average annual landings. Possible conditions the agency may impose on this permit, if it is granted, include but are not limited to, a prohibition of conducting research within marine protected areas, marine sanctuaries, or special management zones, without additional authorization. Additionally, NMFS will prohibit the possession of Nassau or goliath grouper, and require any sea turtles taken incidentally during the course of fishing or scientific research activities to be handled with due care to prevent injury to live specimens, observed for activity, and returned to the water. All Foundation-associated personnel who conduct onboard sampling activities have undergone formal sea turtle handling training through NMFS, and are considered NMFS-designated agents while conducting work under the identified Cooperative Agreements.

A final decision on issuance of the EFP will depend on a NMFS review of public comments received on the application, consultations with the affected states, the South Atlantic Fishery Management Council, and the U.S. Coast Guard, and a determination that the EFP is consistent with all applicable laws.

Authority: 16 U.S.C. 1801 et seq.

Dated: August 26, 2014.
Emily H. Menashes,
Acting Director, Office of Sustainable Fisheries, National Marine Fisheries Service.

[FR Doc. 2014-20595 Filed 8-28-14; 8:45 am]

BILLING CODE 3510-22-P